DEPARTMENT OF COMMERCE

National Oceanic and Atmospheric Administration

[I.D. 021405C]

New England Fishery Management Council; Public Meetings

AGENCY: National Marine Fisheries Service (NMFS), National Oceanic and Atmospheric Administration (NOAA), Commerce.

ACTION: Public meetings.

SUMMARY: The New England Fishery Management Council (Council) is scheduling a public meeting of its Joint Groundfish and Advisory Panels and Bycatch Oversight Committee in March, 2005 to consider actions affecting New England fisheries in the exclusive economic zone (EEZ). Recommendations from these groups will be brought to the full Council for formal consideration and action, if appropriate.

DATES: The meetings will be held on March 9 and March 10, 2005. See SUPPLEMENTARY INFORMATION for specific dates and times.

ADDRESSES: The meetings will be held in Peabody, MA. See SUPPLEMENTARY INFORMATION for specific locations.

FOR FURTHER INFORMATION CONTACT: Paul J. Howard, Executive Director, New England Fishery Management Council (978) 465-0492. Requests for special accommodations should be addressed to the New England Fishery Management Council, 50 Water Street, Mill 2, Newburyport, MA 01950; telephone: (978) 465-0492.

SUPPLEMENTARY INFORMATION:

Meeting Dates and Agendas

Wednesday, March 9, 2005, at 9:30 a.m.-Joint Groundfish and Whiting Advisory Panel Meeting.

Location: Holiday Inn, One Newbury Street, Route 1, Peabody, MA 01960; telephone: (978) 535-4600.

The advisory panels will discuss potential bycatch issues facing the groundfish and whiting fisheries due to the very large 2003-year class of haddock. They will review existing oversight committee recommendations and recommend to these committees additional strategies and measures designed to reduce haddock bycatch.

Thursday, March 10, 2005, at 9 a.m.-Ad Hoc Bycatch Oversight Committee Meeting.

Location: Holiday Inn, One Newbury Street, Route 1, Peabody, MA 01960; telephone: (978) 535-4600.

The Bycatch Committee will review recommendations from the Advisors as well as develop final recommendations to the Council regarding potential haddock bycatch reduction measures for herring, whiting and groundfish fisheries, as well as recommendations on implementation procedures so that the recommendations can be in place prior to any significant haddock bycatch situations in those fisheries.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least five days prior to the meeting dates.

Dated: February 15, 2005.
Emily Menashes,
Acting Director, Office of Sustainable Fisheries, National Marine Fisheries Service.

[FR Doc. E5-665 Filed 2-17-05; 8:45 am]

BILLING CODE 3510-22-S